DEPARTMENT OF HEALTH AND HUMAN SERVICES

National Institutes of Health

Submission for OMB Review; Comment Request; Pretesting of NIAID's Biomedical HIV Prevention Research Communication Messages

SUMMARY: Under the provisions of Section 3507(a)(1)(D) of the Paperwork Reduction Act of 1995, the National Institute of Allergy and Infectious Diseases (NIAID), the National Institutes of Health (NIH) has submitted to the Office of Management and Budget (OMB) a request to review and approve the information collection listed below. This proposed information collection was previously published in the Federal Register on November 17, 2010 (Volume 75, Number 221), page 70270-70271 and allowed 60-days for public comment. In response, NIAID received two requests for copies of the clearance package, which were provided. No additional requests, comments or suggestions were received. The purpose of this notice is to allow an additional 30 days for public comment. The National Institutes of Health may not conduct or sponsor, and the respondent is not required to respond to, an information collection that has been extended, revised, or implemented on or after October 1, 1995, unless it displays a currently valid OMB control number.

Proposed Collection: Title: Pretesting of NIAID's Biomedical HIV Prevention Research Communication Messages. Type of Information Collection Request: Revision of a previously approved collection. Need and Use of Information Collection: This is a request for clearance to pretest messages, materials and program activities about biomedical HIV prevention research. The primary objectives of the pretests are to (1) assess audience knowledge, attitudes, behaviors and other characteristics for the planning/development of health messages, education products, communication strategies, and public information programs; and (2) pretest these health messages, products, strategies, and program components while they are in developmental form to assess audience comprehension, reactions, and perceptions. The information obtained from audience research and pretesting results in more effective messages, materials, and programmatic strategies. By maximizing the effectiveness of these messages and strategies for reaching targeted audiences, the frequency with which publications, products, and programs need to be modified is reduced. Frequency of Response: On occasion. Affected Public: Individuals. Type of Respondents: Adults at risk for HIV/AIDS; healthcare providers; representatives of organizations disseminating HIV-related messages or materials. The total reporting burden over the 3-year period is shown in the table below. There are no Capital Costs to report. There are no Operating or Maintenance Costs to report.

Note: The burden table below reflects what NIAID anticipates would be accomplished over the total 3-year life of the clearance. (Annual burden, therefore, is one-third of the total figures presented here.)

Table 1—Estimates of Hour Burden by Anticipated Data Collection Methods
| Total number of respondents | Frequency of response | Hours per response | Total hours
Individual In-Depth Interviews (in person or telephone) | 228 | 1 | 1 | 228
| 22 (Partners/Stakeholders) | 2 | 1 | 44
Focus Group Interviews | 864 | 1 | 2 | 1728
Intercept Interviews/Surveys | 4500 | 1 | .25 | 1125
Gatekeeper Reviews | 150 | 1 | .25 | 37.5
Self-Administered Questionnaires: Random selection from central location, online, etc | 1500 | 1 | .25 | 375
Self-Administered Customer Satisfaction Surveys of Meetings and Conference Sessions | 2265 | 1 | .2 | 453
| 50 (Partners/Stakeholders) | 3 | .2 | 30
Self-Administered: Customer Satisfaction Surveys of Materials and Services | 50 (Partners) | 3 | .25 | 37.5
Self-Administered Customer Satisfaction Pop-up Surveys | 900 | 1 | .08 | 72
Telephone Surveys | 1000 | 1 | .25 | 250
Totals | 11,529 |  |  | 4,380
(Note: On an annual basis, the total number of respondents is 3,843; and the total annual hours are 1,460)

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact Katharine Kripke, Assistant Director, Vaccine Research Program, Division of AIDS, NIAID, NIH, 6700B Rockledge Dr., Bethesda, MD 20892-7628, or call non-toll-free number 301-402-0846, or e-mail your request, including your address to kripkek@niaid.nih.gov.

Comments due date: Comments regarding this information collection are best assured of having their full effect if received within 30-days of the date of this publication.

Dated: January 28, 2011.
William A. Gillen,
Acting Deputy Director for Science Management, National Institute of Allergy and Infectious Diseases, NIH/HHS.

[FR Doc. 2011-2546 Filed 2-3-11; 8:45 am]

BILLING CODE 4140-01-P